ENVIRONMENTAL PROTECTION AGENCY

[Petition IV-2015-2; FRL-9957-62-Region 4]

Clean Air Act Operating Permit Program; Petition for Objection to State Operating Permit for Piedmont Green Power (Lamar County, Georgia)

AGENCY: Environmental Protection Agency (EPA).

ACTION: Notice of final order on petition to object to state operating permit.

SUMMARY: The EPA Administrator signed an Order, dated December 13, 2016, granting in part and denying in part the petition to object to Clean Air Act (CAA) title V operating permit issued by the Georgia Environmental Protection Division (Georgia EPD) to the Piedmont Green Power (PGP) facility located in Barnesville, Lamar County, Georgia. This Order constitutes a final action on the petition submitted by the Partnership for Policy Integrity (Petitioner) and received by EPA on May 26, 2015.

ADDRESSES: Copies of the Order, the petition, and all pertinent information relating thereto are on file at the following location: EPA Region 4; Air, Pesticides and Toxics Management Division; 61 Forsyth Street SW., Atlanta, Georgia 30303-8960. The Order is also available electronically at the following address: https://www.epa.gov/title-v-operating-permits/2016-order-responding-2015-petition-object-piedmont-green-power-operating.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioner submitted a petition regarding the aforementioned PGP facility, requesting that EPA object to the CAA title V operating permit (#4911-171-0014-V-02-0). Petitioner alleged that the permit was not consistent with the CAA because: (1) It lacks adequate fuel testing to assure compliance with the burning of only “clean cellulosic biomass”; (2) it includes synthetic minor limits for hazardous air pollutants that are unenforceable; (3) it includes synthetic minor limits for oxides of nitrogen and carbon monoxide that are unenforceable; (4) it includes other specific conditions that are unenforceable; (5) it failed to include best available control technology requirements related to greenhouse gas emissions; and (6) the potential to emit calculation for the facility impermissibly excluded emissions during startup, shutdown, and malfunction.

On December 16, 2016, the Administrator issued an Order granting in part and denying in part the petition. The Order explains EPA's rationale for granting in part and denying in part the petition.

Dated: December 16, 2016.
Heather McTeer Toney,
Regional Administrator, Region 4.

[FR Doc. 2016-31639 Filed 12-28-16; 8:45 am]

BILLING CODE 6560-50-P